DEPARTMENT OF ENERGY

Commission To Review the Effectiveness of the National Energy Laboratories

AGENCY: Department of Energy.

ACTION: Notice of open meeting.

SUMMARY: This notice announces an open meeting of the Commission to Review the Effectiveness of the National Energy Laboratories (Commission). The Commission was created pursuant section 319 of the Consolidated Appropriations Act, 2014, Public Law No. 113-76, and in accordance with the provisions of the Federal Advisory Committee Act (FACA), as amended, 5 U.S.C. App. 2. This notice is provided in accordance with the Act.

DATES: Tuesday, November 4, 2014, 9:00 a.m.-4:00 p.m.

ADDRESSES: TCS Conference Center, Argonne National Laboratory, Theory and Computing Sciences Building (Building 240), 9700 South Cass Avenue, Lemont, IL 60439.

FOR FURTHER INFORMATION CONTACT: Karen Gibson, Designated Federal Officer, U.S. Department of Energy, 1000 Independence Avenue SW., Washington, DC 20585; telephone: (202) 586-3787; email: crenel@hq.doe.gov.

SUPPLEMENTARY INFORMATION: Background: The Commission was established to provide advice to the Secretary on the Department's national laboratories. The Commission will review the DOE national laboratories for alignment with the Department's strategic priorities, clear and balanced missions, unique capabilities to meet current energy and national security challenges, appropriate size to meet the Department's energy and national security missions, and support of other Federal agencies. The Commission will also look for opportunities to more effectively and efficiently use the capabilities of the national laboratories and review the use of laboratory directed research and development (LDRD) to meet the Department's science, energy, and national security goals.

Purpose of the Meeting: This meeting is the fourth meeting of the Commission.

Tentative Agenda: The meeting will start at 9:00 a.m. on November 4. The tentative meeting agenda includes a review of lab relationships with industry and university R&D and the role of DOE Labs in national security and U.S. science and technology. Key presenters will address and discuss these topics with comments from the public. The meeting will conclude at 4:00 p.m.

Public Participation: The meeting is open to the public. Individuals who would like to attend must RSVP to Karen Gibson no later than 5:00 p.m. on Wednesday, October 29, 2014 by email at: crenel@hq.doe.gov. Please provide your name, organization, citizenship, and contact information. Anyone attending the meeting will be required to present government-issued identification. Individuals and representatives of organizations who would like to offer comments and suggestions may do so at the end of the meeting. Approximately 30 minutes will be reserved for public comments. Time allotted per speaker will depend on the number who wish to speak but will not exceed five minutes. The Designated Federal Officer is empowered to conduct the meeting in a fashion that will facilitate the orderly conduct of business. Those wishing to speak should register to do so beginning at 9:00 a.m. on November 4.

Those not able to attend the meeting or who have insufficient time to address the committee are invited to send a written statement to Karen Gibson, U.S. Department of Energy, 1000 Independence Avenue SW., Washington DC 20585, or to email at: crenel@hq.doe.gov.

Minutes: The minutes of the meeting will be available on the Commission's Web site at: http://energy.gov/labcommission.

Issued in Washington, DC, on October 10, 2014.
LaTanya R. Butler,
Deputy Committee Management Officer.

[FR Doc. 2014-24873 Filed 10-17-14; 8:45 am]

BILLING CODE 6450-01-P